DEPARTMENT OF THE INTERIOR

Fish and Wildlife Service

Availability of a Draft Supplemental Environmental Assessment on the Continuation of General Swan Hunting Seasons in Parts of the Pacific Flyway; Notice

AGENCY: Fish and Wildlife Service, Interior.

ACTION: Notice of meeting.

SUMMARY: The U.S. Fish and Wildlife Service (Service or we) is issuing this notice to invite further public participation and comment on the Draft Supplemental Environmental Assessment on the Continuation of General Swan Hunting Seasons in Parts of the Pacific Flyway (Assessment). The Assessment considers a range of management alternatives for establishment of future operational swan hunting seasons in the Pacific Flyway. This notice invites further public participation by identifying the location, date, and time of public meetings on the Assessment.

DATES: You must submit written comments on the Assessment by June 17, 2000.

ADDRESSES: Copies of the Draft Environmental Assessment can be obtained by writing to Robert Trost, Pacific Flyway Representative, U.S. Fish and Wildlife Service, Office of Migratory Bird Management, 911 N.E. 11th Avenue, Portland, Oregon 97232-4181. Written comments can be sent to the same address. All comments received, including names and addresses, will become part of the public record. You may inspect comments during normal business hours at the same address.

FOR FURTHER INFORMATION CONTACT: Robert Trost at: Pacific Flyway Representative, U.S. Fish and Wildlife Service, Office of Migratory Bird Management, 911 N.E. 11th Avenue, Portland, Oregon 97232-4181, (503) 231-6162.

SUPPLEMENTARY INFORMATION: On March 23, 2000, we published a Notice of Availability (65 FR 15646). The Draft Supplemental Assessment includes a review of the past 5-year experimental general swan hunting seasons in parts of the Pacific Flyway and alternatives for establishment of future operational swan hunting seasons in the same area. The Supplemental Assessment was prompted by requests from individuals, States, and various conservation organizations for a thorough examination of alternatives for swan hunting in the Pacific Flyway in light of continuing concerns for the Rocky Mountain Population of trumpeter swans. The Assessment deals with establishment of an operational approach for swan hunting and related efforts to address status and distributional concerns regarding the Rocky Mountain Population of trumpeter swans. Four alternatives, including the proposed action, are considered in the Assessment.

Public Meetings

Two public meetings will be held on the following dates at the indicated locations and times:

1. May 15, 2000; Idaho Falls, Idaho, at the Bureau of Land Management District Office, 1405 Hollipark Drive, 7:00-9:30 p.m.

2. May 17, 2000; Salt Lake City, Utah, at the Utah Department of Natural Resources Building Complex, 1594 West North Temple, 6:00-9:30 p.m.

At the public meetings, you may choose to submit oral and/or written comments. All comments should include a complete mailing address in order to receive a copy of the final Assessment. All comments must be submitted by June 17, 2000.

Dated: April 7, 2000.
Jamie Rappaport Clark,
Director, U.S. Fish and Wildlife Service.

[FR Doc. 00-10068 Filed 4-21-00; 8:45 am]

BILLING CODE 4310-55-P